DEPARTMENT OF COMMERCE

National Oceanic and Atmospheric Administration (NOAA)

Marine Protected Areas Federal Advisory Committee; Public Meeting

AGENCY: National Ocean Service, NOAA, Commerce.

ACTION: Notice of open meeting.

SUMMARY: Notice is hereby given of a meeting via web conference call of the Marine Protected Areas Federal Advisory Committee (Committee). The web conference call is open to the public, and participants can dial in to the call. Participants who choose to use the web conferencing feature in addition to the audio will be able to view the presentation as it is being given. Members of the public wishing to listen should contact Lauren Wenzel at the email or telephone number below for the call-in number and passcode.

DATES: The meeting will be held Thursday, February 1 from 2 to 5 p.m. (Eastern time). Refer to the web page listed below for the most up-to-date meeting agenda.

FOR FURTHER INFORMATION CONTACT: Lauren Wenzel, Designated Federal Officer, MPA FAC, National Marine Protected Areas Center, 1305 East West Highway, Silver Spring, Maryland, 20910. (Phone: 301-713-3100 x136, Fax: 301-713-3110); e-mail: lauren.wenzel@noaa.gov; or visit the National MPA Center Web site at http://www.mpa.gov).

SUPPLEMENTARY INFORMATION: The Committee, composed of external, knowledgeable representatives of stakeholder groups, was established by the Department of Commerce to provide advice to the Secretary of Commerce and the Secretary of the Interior on implementation of Section 4 of Executive Order 13158.

Matters To Be Considered: The Committee will discuss and vote on its comments on the Draft Framework for Developing a National System of Marine Protected Areas, a document produced by the National Marine Protected Areas Center that is currently out for public review until February 14, 2007. The document and any related Committee materials for the conference call will be posted at http://www.mpa.gov.

Dated: January 10, 2007.
David M. Kennedy,
Director, Office of Ocean and Coastal Resource Management.

[FR Doc. E7-1097 Filed 1-25-07; 8:45 am]

BILLING CODE 3510-08-P